DEPARTMENT OF EDUCATION

National Assessment Governing Board; Meeting

AGENCY: National Assessment Governing Board; Department of Education.

ACTION: Notice of closed teleconference meeting.

SUMMARY: This notice sets forth the schedule and proposed agenda of a forthcoming closed teleconference meeting of the Executive Committee of the National Assessment Governing Board. This notice also describes the functions of the Board. Notice of this meeting is required under Section 10(a)(2) of the Federal Advisory Committee Act.

DATES: April 14, 2006.

Time: 11 a.m. to 11:45 a.m. (closed).

Location: National Assessment Governing Board, 800 North Capitol Street, NW., Suite #825, Washington, DC 20001.

FOR FURTHER INFORMATION CONTACT: Munira Mwalimu, Operation Officer, National Assessment Governing Board, 800 North Capitol Street, NW., Suite #825, Washington, DC 20002-4233; telephone: (202) 357-6938.

SUPPLEMENTARY INFORMATION: The National Assessment Governing Board is established under section 412 of the National Education Statistics Act of 1994, as amended. The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons. On April 14, 2006 the Executive Committee will hold a closed teleconference meeting from 11 a.m.-11:45 a.m. to discuss independent government cost estimates developed for modifications to current National Assessment of Educational Progress (NAEP) contracts. These modifications, proposed by the National Center for Education Statistics, have direct implications for current NAEP contracts and future NAEP operations.

At the March 2-4, 2006 Board meeting, the National Assessment Governing Board delegated authority to the Executive Committee to take action on the proposed contract modifications, which requires consideration of independent government cost estimates. This delegation of authority was necessary due to the urgent requirement to make contract modification decisions to ensure that the assessment operations are conducted in a timely manner. These decisions need to be made prior to the next Board meeting scheduled to take place in May 2006. The discussion of independent government cost estimates prior to the execution of contract modifications is necessary for ensuring that NAEP contracts meet congressionally mandated goals and adhere to Board policies on NAEP assessment.

This teleconference meeting must be conducted in closed session because public disclosure of this information would likely have an adverse financial effect on the NAEP program and will provide an advantage to the affected contractors. The discussion of this information would be likely to significantly impede implementation of a proposed agency action if conducted in open session. Such matters are protected by exemption 9(B) of section 552b(c) of Title 5 U.S.C.

A summary of the activities of the closed teleconference, and other related matters which are informative to the public and consistent with the policy of the section 5 U.S.C. 552b(c), will be available to the public within 14 days after meeting. Records are kept of all Board proceedings and are available for public inspection at the U.S. Department of Education, National Assessment Governing Board, Suite #825, 800 North Capitol Street, NW., Washington, DC, from 8:30 a.m. to 5 p.m.

Dated: March 27, 2006.
Charles Smith,
Executive Director, National Assessment Governing Board.

[FR Doc. 06-3102 Filed 3-30-06; 8:45 am]

BILLING CODE 4000-01-M